DEPARTMENT OF COMMERCE

International Trade Administration

A-570-007

Barium Chloride From the People's Republic of China: Final Results of Expedited Third Sunset Review of Antidumping Duty Order

AGENCY: Import Administration, International Trade Administration, Department of Commerce

EFFECTIVE DATE: October 29, 2009.

SUMMARY: On July 1, 2009, the Department of Commerce (the “Department”) initiated a sunset review of the antidumping duty order on barium chloride from the People's Republic of China (“PRC”). On the basis of a notice of intent to participate and an adequate substantive response from domestic interested parties, as well as a lack of response from respondent interested parties, the Department conducted an expedited (120-day) sunset review. As a result of the sunset review, the Department finds that revocation of the antidumping duty order would be likely to lead to continuation or recurrence of dumping. The dumping margins are identified in the Final Results of Review section of this notice.

FOR FURTHER INFORMATION CONTACT: Melissa Blackledge or Howard Smith, AD/CVD Operations, Office 4, Import Administration, International Trade Administration, U.S. Department of Commerce, 14th Street and Constitution Avenue, NW, Washington, DC 20230; Telephone: (202) 482-3518 or (202) 482-5193, respectively.

SUPPLEMENTARY INFORMATION:

Background

On July 1, 2009, the Department published the notice of initiation of the third sunset review of the antidumping duty order on barium chloride from the PRC pursuant to section 751(c) of the Tariff Act of 1930, as amended (“the Act”). See Initiation of Five-year (“Sunset”) Review, 74 FR 31412 (July 1, 2009). On July 6, 2009, the Department received a notice of intent to participate from Chemical Products Corporation (“CPC”), a domestic interested party, within the deadline specified in section 351.218(d)(1)(i) of the Department's regulations. CPC claimed interested party status under section 771(9)(C) of the Act as a domestic producer of barium chloride in the United States. On July 31, 2009, the Department received a substantive response from CPC within the deadline specified in section 351.218(d)(3)(i) of the Department's regulations. The Department did not receive a response from any respondent interested party to this proceeding. As a result, pursuant to section 751(c)(3)(B) of the Act and section 351.218(e)(1)(ii)(C)(2) of the Department's regulations, the Department determined to conduct an expedited review of the order.

Scope of the Order

The merchandise covered by the order is barium chloride, a chemical compound having the formulas BaCl2 or BaCl2-2H2O, currently classifiable under item number 2827.39.45.00 of the Harmonized Tariff Schedule of the United States (“HTSUS”).¹ Although the HTSUS item number is provided for convenience and for U.S. Customs and Border Protection purposes, the written description remains dispositive.

¹ The scope reflects the HTSUS item number currently in effect.

Analysis of Comments Received

All issues raised in this review are addressed in the “Issues and Decision Memorandum” (“Decision Memorandum”) from John M. Andersen, Acting Deputy Assistant Secretary for Antidumping and Countervailing Duty Operations, to Ronald K. Lorentzen, Acting Assistant Secretary for Import Administration, which is dated concurrently with this notice, and hereby adopted by this notice. The issues discussed in the Decision Memorandum include the likelihood of continuation or recurrence of dumping and the magnitude of the margins likely to prevail if the order were revoked. Parties can find a complete discussion of all issues raised in this review and the corresponding recommendations in this public memorandum, which is on file in the Central Records Unit in room 1117 of the main Commerce building.

In addition, a complete version of the Decision Memorandum can be accessed directly on the web at http://ia.ita.doc.gov/frn. The paper copy and electronic version of the Decision Memorandum are identical in content.

Final Results of Review

Pursuant to section 752(c) of the Act, we determine that revocation of the antidumping duty order on barium chloride from the PRC would be likely to lead to continuation or recurrence of dumping at the following weighted-average percentage margin:

Exporter/Manufacturer | Margin (percent)
PRC-Wide | 155.50

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing the results and notice in accordance with sections 751(c), 752(c), and 777(i)(1) of the Act.

Dated: October 22, 2009.
Ronald K. Lorentzen,
Acting Assistant Secretary for Import Administration.

[FR Doc. E9-26109 Filed 10-28-09; 8:45 am]

BILLING CODE 3510-DS-S